DEPARTMENT OF TRANSPORTATION

Federal Aviation Administration

14 CFR Part 71

[Docket No. FAA-2016-0986; Airspace Docket No. 15-AEA-7]

Amendment of Air Traffic Service (ATS) Routes; Eastern United States

AGENCY: Federal Aviation Administration (FAA), DOT.

ACTION: Final rule; delay of effective date.

SUMMARY: This action changes the effective date of a final rule published in the Federal Register on February 27, 2017, amending area navigation (RNAV) routes Q-39 and Q-67 in the eastern United States. The FAA is delaying the effective date to coincide with the expected completion of associated enroute and terminal procedures.

DATES: The effective date of the final rule published on February 27, 2017 (82 FR 11804) is delayed from April 27, 2017 to October 12, 2017. The Director of the Federal Register approved this incorporation by reference action under Title 1, Code of Federal Regulations, part 51, subject to the annual revision of FAA Order 7400.11 and publication of conforming amendments.

FOR FURTHER INFORMATION CONTACT: Paul Gallant, Airspace Policy Group, Office of Airspace Services, Federal Aviation Administration, 800 Independence Avenue SW., Washington, DC 20591; telephone: (202) 267-8783.

SUPPLEMENTARY INFORMATION:

Background

The FAA published a final rule amending area navigation (RNAV) routes Q-39 and Q-67 in the eastern United States (82 FR 11804, February 27, 2017), Docket No. FAA-2016-0986. The effective date for that final rule is April 27, 2017. The FAA expects to complete associated enroute and terminal procedures for these routes by for October 12, 2017; therefore the rule amending Q-39 and Q-67 is delayed to coincide with that date.

Area navigation routes are published in paragraph 2006 of FAA Order 7400.11A dated August 3, 2016, and effective September 15, 2016, which is incorporated by reference in 14 CFR 71.1. The area navigation routes listed in this document will be subsequently published in the Order.

Good Cause for No Notice and Comment

Section 553(b)(3)(B) of Title 5, United States Code, (the Administrative Procedure Act) authorizes agencies to dispense with notice and comment procedures for rules when the agency for “good cause” finds that those procedures are “impracticable, unnecessary, or contrary to the public interest.” Under this section, an agency, upon finding good cause, may issue a final rule without seeking comment prior to the rulemaking. The FAA finds that prior notice and public comment to this final rule is unnecessary due to the brief length of the extension of the effective date and the fact that there is no substantive change to the rule.

Delay of Effective Date

Accordingly, pursuant to the authority delegated to me, the effective date of the final rule, Airspace Docket 15-AEA-7, as published in the Federal Register on February 27, 2017 (82 FR 11804), FR. Doc. 2017-03507, is hereby delayed until October 12, 2017.

Authority: 49 U.S.C. 106(f), 106(g); 40103, 40113, 40120; E.O. 10854, 24 FR 9565, 3 CFR, 1959-1963 Comp., P. 389.

Issued in Washington, DC, on March 22, 2017.
M. Randy Willis,
Acting Manager, Airspace Policy Group.

[FR Doc. 2017-06117 Filed 3-28-17; 8:45 am]

BILLING CODE 4910-13-P